DEPARTMENT OF COMMERCE

National Oceanic and Atmospheric Administration

RIN 0648-XW10

Vessel Monitoring Systems; Approved Mobile Transmitting Units and Communications Service Providers for Use in the Fisheries of the Western and Central Pacific

AGENCY: National Marine Fisheries Service (NMFS), National Oceanic and Atmospheric Administration (NOAA), Commerce.

ACTION: Notice of vessel monitoring systems; type-approval.

SUMMARY: This document provides notice of vessel monitoring systems (VMS) approved by NOAA for use by vessels participating in the Western and Central Pacific Fishery, and sets forth relevant features of the VMS.

ADDRESSES: To obtain copies of the list of NOAA-approved VMS mobile transmitting units and NOAA-approved VMS communications service providers, please contact the VMS Support Center at (phone) 888-219-9228, (fax) 301-427-0049, or write to NOAA Fisheries Office for Law Enforcement (OLE), VMS Support Center, 8484 Georgia Avenue, Suite 415, Silver Spring, MD 20910. For more addresses regarding approved VMS, see the SUPPLEMENTARY INFORMATION section under the heading “VMS Provider Addresses.”

FOR FURTHER INFORMATION CONTACT: For questions regarding the status of VMS provider evaluations, contact Kelly Spalding, VMS Management Analyst, 301-427-2300; (fax) 301-427-0049. For questions regarding the Western and Central Pacific Fishery VMS requirement, contact Terry Boone, Pacific Islands Division VMS Program Manager, pidvms@noaa.gov, 808-203-2503.

SUPPLEMENTARY INFORMATION:

VMS Mobile Transceiver Units

Faria WatchDog 750VMS With VTERM

The Faria WatchDog 750VMS with VTERM transceiver consists of an integrated dual model GPS/GSM/GPRS/Iridium Satellite Communicator or a single mode GPS/Iridium Satellite Communicator mounted in the wheelhouse and antennas mounted atop the vessel. The Faria VTERM is a 7-inch color touch screen display and provides the capability (if so configured) to process electronic forms, declarations, and to send e-mail. The unit is pre-configured and tested for NOAA Fisheries Service VMS Operations.

Automatic GPS position reporting starts after transceiver installation and power activation onboard the vessel. The unit is a car-radio-sized transceiver powered by a 9.5 to 36 VDC power supply. The unit can be configured for automatic reduced position transmissions when the vessel is stationary (i.e., in port) which allows for port stays in a reduced power state and without the need for unit shut down. The unit restarts normal position transmission automatically when the vessel goes to sea.

The Faria WatchDog 750VMS has omni-directional Iridium, GPS, and GSM/GPRS antennas, providing operation from ± 5 degrees above or below the horizon anywhere on Earth. The GSM/GPRS capability (if activated) gives the system the additional ability to communicate through the AT&T GPRS wireless network where available.

A configuration option is available to automatically send daily status reports to a private e-mail address and position reports to a secure Web site where the data is provided on a map and in tabular form. A 2-inch LCD user interface is also included with this system that displays if the MTU is operating properly and can send emergency notification messages to up to four e-mail addresses and/or telephone numbers. A complete list of options is available from the VMS provider.

A vessel owner may purchase this system by contacting the entity identified in this notice under the heading “VMS Provider Addresses.” The owner should identify himself or herself as a vessel owner issued a permit to operate in the Western and Central Pacific Fishery so the transceiver set can be properly configured.

The Thrane & Thrane Sailor (TT-3026D) Gold VMS

The TT-3026D Gold VMS features an integrated GPS/Inmarsat-C unit. The unit is factory pre-configured for NMFS VMS operations (non-Global Maritime Distress & Safety System (non-GMDSS)).The TT-3026D Gold VMS includes a marine-grade monitor with keyboard and integrated mouse. Satellite commissioning services are provided by GMPCS personnel.

Automatic GPS position reporting starts after transceiver installation and power activation onboard the vessel. The unit is an integrated transceiver/antenna/GPS design using a floating 10 to 32 VDC power supply. The unit is configured for automatic reduced position transmissions when the vessel is stationary (i.e., in port). It allows for port stays without power drain or power shut down. The unit restarts normal position transmission automatically when the vessel goes to sea.

The TT-3026D provides operation down to ± 15 degree angles. The unit has the capability (if so configured) of two-way communications to send electronic forms and to receive e-mail and other messages. A configuration option is available to automatically send position reports to a private address, such as a fleet management company.

To use the TT-3026D, the vessel owner will need to establish an Inmarsat-C system use contract with an approved Inmarsat-C communications service provider. The owner will be required to complete the Inmarsat-C Registration for Service Activation for Maritime Mobile Earth Station. The owner should consult with GMPCS when completing this form.

GMPCS personnel will perform the following services before shipment: (1) Configure the transceiver according to OLE specifications for vessels issued permits to operate in the Western and Central Pacific Fishery; (2) download the predetermined NMFS position reporting and broadcast command identification numbers into the unit; (3) test the unit to ensure operation when installation has been completed on the vessel; and (4) forward the Inmarsat service provider and the transceiver identifying information to OLE.

A vessel owner may purchase this system by contacting the entity identified in this notice under the heading “VMS Provider Addresses.” The owner should identify himself or herself as a vessel owner issued a permit to operate in the Western and Central Pacific Fishery so the transceiver set can be properly configured.

CLS America Thorium VMS TST-100

The approved configuration consists of the CLS America Thorium VMS TST-100 Transceiver and the Data Terminal Equipment (DTE) version 1.0. The DTE software is version 1.0. The CLS Thorium VMS unit and the DTE must be bundled with Halios communications (e-mail, eforms) and position services. This configuration is enabled through the Iridium Short Burst Data (SBD) service, and is accessed through the CLS Iridium Web Portal (IWP) or machine-to-machine interface (IWS).

A vessel owner may purchase this system by contacting the entity identified in this notice under the heading “VMS Provider Addresses.” The owner should identify himself or herself as a vessel owner issued a permit to operate in the Western and Central Pacific Fishery so the transceiver set can be properly configured.

Communications Service Providers

OLE has approved the below-listed communications service providers for the Western and Central Pacific Fishery: GSM/Iridium for Faria Watchdog 750VMS with VTERM; Stratos Global and Vizada satellite communications services for the Thrane and Thrane Sailor (TT-3026D) Gold VMS; and Halios/Iridium for the CLS America Thorium TST-100 VMS.

The owner must confirm the operation and communications service to ensure that position reports are automatically sent to and received by OLE before leaving on a fishing trip under VMS. OLE does not regard the fishing vessel as being in compliance until position reports are automatically received. For confirmation purposes, contact the VMS support center at 888-219-9228 or ole.helpdesk@noaa.gov.

Faria GSM/Iridium Service

The Faria Watchdog GSM/Iridium Service is a dual mode GSM/GPRS and Iridium platform to ensure that connections are highly reliable, near real time and cost effective. The primary channel is the GSM/GPRS (if activated) and the secondary channel is Iridium.

INMARSAT-C Communications Providers

It is recommended, for vendor warranty and customer service purposes, that the vessel owner keep for his or her records (and that Stratos Global or Vizada have on record) the following identifying information: (a) Signed and dated receipts and contracts; (b) transceiver serial number; (c) Vizada or Stratos Global customer number, user name and password; (d) e-mail address of transceiver; (e) Inmarsat identification number; (f) owner name; (g) vessel name; (h) vessel documentation or registration number; and (i) mobile earth station license (FCC license).

CLS America Halios/Iridium Service

Thorium VMS TST-100 VMS must be bundled with Halios communications (e-mail, eforms) and position services, enabled through the (SBD) service, and accessed through the CLS (IWP) or (IWS).

VMS Provider Addresses

For Faria Watchdog/Iridium information, contact Faria WatchDog Inc., P.O. Box 486, Uncasville, CT 06382, mark@fariawatchdog.net; (860) 608-5875; (fax): (860) 848-9005.

For Thrane & Thrane Sailor 3026D Gold VMS, Stratos Global or Vizada information contact GMPCS Personal Communications Inc., 1501 Green Rd., Suite A-B, Pompano Beach, FL 33064; vms@GMPCS-US.com; (954) 973-3100; (fax): (954) 973-4800.

For CLS America Thorium VMS TSTS-100 and Halios/Iridium information, contact CLS America, Inc., 1441 McCormick Drive, Suite 1050, Largo, MD 20774; userservices@clsamerica.com; (301) 925-4411; (fax): (301) 925-8995.

Dated: October 12, 2010.
Samuel D. Rauch III,
Deputy Assistant Administrator for Regulatory Programs, National Marine Fisheries Service.

[FR Doc. 2010-26071 Filed 10-14-10; 8:45 am]

BILLING CODE 3510-22-P